DEPARTMENT OF ENERGY

Federal Energy Regulatory Commission

[Project No. 2230-036]

City and Borough of Sitka, AK; Notice of Request To Use Alternative Procedures in Preparing a License Amendment Application

April 28, 2008.

Take notice that the following request to use alternative procedures to prepare a license amendment application has been filed with the Commission.

a. Type of Application: Request to use alternative procedures to prepare a license amendment application.

b. Project No.: 2230-036.

c. Date Filed: March 11, 2008.

d. Applicant: City and Borough of Sitka, Alaska.

e. Name of Project: Blue Lake Project.

f. Location: On Sawmill Creek, in Borough of Sitka, Alaska. The project occupies 1,628.1 acres of federal lands within Tongass National Forest.

g. Filed Pursuant to: Federal Power Act, 16 U.S.C 791(a)-825(r).

h. Applicant Contact: Charlie Walls, Utility Director, City and Borough of Sitka Electric Department, 105 Jarvis St., Sitka, Alaska 99835, (907) 747-1870, charlie@cityofsitka.com.

i. FERC Contact: William Guey-Lee, 202-502-6064, william.gueylee@ferc.gov

j. Deadline for Comments: May 28, 2008.

All documents (original and eight copies) should be filed with: Kimberly D. Bose, Secretary, Federal Energy Regulatory Commission, 888 First Street, NE., Washington, DC 20426.

Comments may be filed electronically via the Internet in lieu of paper. The Commission strongly encourages electronic filings. See 18 CFR 385.2001(a)(1)(iii) and the instructions on the Commission's Web site (http://www.ferc.gov) under the “e-Filing” link.

k. The existing project generally consists of a 211-foot-high, 256-foot-long concrete arch dam, impounding the 1,225 acre Blue Lake reservoir; a 7,110 foot-long power conduit; and a powerhouse containing two 3,000 kilowatt units. The applicant proposes to add a third generating unit near the existing powerhouse, and raise the existing dam by as much as 83 feet.

l. A copy of the request to use alternative procedures is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

m. Applicant has demonstrated that it has made an effort to contact all federal and state resources agencies, non-governmental organizations (NGO), and others affected by the project. Applicant has also demonstrated that a consensus exists that the use of alternative procedures is appropriate in this case. Applicant has submitted a communications protocol that is supported by the stakeholders.

The purpose of this notice is to invite any additional comments on Applicant's request to use the alternative procedures, pursuant to section 4.34(i) of the Commission's regulations. Additional notices seeking comments on the specific project proposal, interventions and protests, and recommended terms and conditions will be issued at a later date. Applicant will complete and file a preliminary Environmental Assessment, in lieu of Exhibit E of the application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Applicant has met with federal and state resource agencies, NGO's, elected officials, environmental groups, and members of the public regarding the Blue Lake amendment project. Applicant intends to conduct the alternative licensing procedures process to file a license amendment application by May 2009.

Kimberly D. Bose,
Secretary.

[FR Doc. E8-9807 Filed 5-2-08; 8:45 am]

BILLING CODE 6717-01-P